DEPARTMENT OF HOMELAND SECURITY

National Communications System

[Docket No. DHS-2005-0051]

Notice of Meeting of the National Security Telecommunications Advisory Committee

AGENCY: National Communications System (NCS).

ACTION: Notice of open meeting.

SUMMARY: The President's National Security Telecommunications Advisory Committee (NSTAC) will meet on Wednesday, July 27, 2005, from 2 p.m. until 3 p.m. The meeting will take place via teleconference and will be open to the public. For access to the conference bridge and meeting materials, interested members of the public should contact Ms. Elizabeth Hart at (703) 289-5948, or by e-mail at hart_elizabeth@bah.com, by 5 p.m. on Monday, July 25, 2005.

The NSTAC advises the President of the United States on issues and problems related to implementing national security and emergency preparedness (NS/EP) telecommunications policy. During the call, the members will receive briefings on Exercise Pinnacle and the National Infrastructure Protection Plan and will discuss the NSTAC work plan and task force activities.

FOR FURTHER INFORMATION CONTACT: Ms. Alberta Ross, Industry Operations Branch at (703) 235-5526, e-mail: Alberta.Ross@dhs.gov, or write the Manager, National Communications System, Department of Homeland Security, IAIP/NCS/N5, Washington, DC 20528-mail stop #8510.

SUPPLEMENTARY INFORMATION: Public Comments: You may submit comments, identified by Docket Number DHS-2005-0051, by one of the following methods:

• EPA Federal Partner EDOCKET Web site: http://www.epa.gov/feddocket. Follow instructions for submitting comments on the Web site.

• Federal eRulemaking Portal: http://www.regulations.gov. Follow the instructions for submitting comments.

• E-mail: NSTAC@dhs.gov. When submitting comments electronically, please include DHS-2005-0051 in the subject line of the message.

• Mail: Office of the Manager, National Communications System, Department of Homeland Security, Washington, DC 20529. To ensure proper handling, please reference DHS-2005-0051 on your correspondence. This mailing address may also be used for paper, disk, or CD-ROM submissions.

All comments received will be posted without change to http://www.epa.gov/feddocket, including any personal information provided. For access to the docket, or to read background documents or comments received, go to http://www.epa.gov/feddocket. You may also access the Federal eRulemaking Portal at http://www.regulations.gov.

Dated: July 7, 2005.
Peter M. Fonash,
Deputy Manager, National Communications System.

[FR Doc. 05-13677 Filed 7-11-05; 8:45 am]

BILLING CODE 4410-10-P